DEPARTMENT OF ENERGY

Federal Energy Regulatory Commission

[Docket No. EL00-95-000]

San Diego Gas & Electric Company, Complainant, v. Sellers of Energy and Ancillary Services into the California Power Exchange and California Independent System Operator Markets, Respondents; Notice of Complaint

August 3, 2000.

Take notice that on August 2, 2000, San Diego Gas & Electric Company (SDG&E), tendered for filing a complaint alleging that the markets for energy and ancillary services operated by the California Power Exchange Corporation (the PX) and the California Independent System Operator Corporation (the SIO) are not workably competitive and that the prices in those markets are unjust and unreasonable. SDG&E alleges that prices in California bulk power markets for exceed prior levels and that, even allowing for higher fuel costs, those prices do not reflect legitimate forces of supply and demand. SDG&E states that market institutions in California require fundamental reform. In the interim, however, SDG&E requests that the Commission limit bids to sell energy or ancillary services into the markets operated by the PX and ISO to $250 per MWh. SDG&E further requests, in light of the severe impact of current prices on consumers in San Diego, that the Commission act as quickly as possible.

Copies of the filing were served upon the ISO, the PX, and other interested parties, and are available on SDG&E's website at htt://www.sdge.com/aboutus/newsroom/index.html.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before August 14, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-20132 Filed 8-8-00; 8:45 am]

BILLING CODE 6717-01-M